FEDERAL DEPOSIT INSURANCE CORPORATION

12 CFR Parts 346 and 390

RIN 3064-AE09

Removal of Transferred OTS Regulations Regarding Disclosure and Reporting of CRA-Related Agreements and Amendments to Other Rules and Regulations

AGENCY: Federal Deposit Insurance Corporation.

ACTION: Notice of proposed rulemaking.

SUMMARY: In this notice of proposed rulemaking, the Federal Deposit Insurance Corporation (“FDIC”) proposes to rescind and remove a regulation entitled “Disclosure and Reporting of CRA-Related Agreements.” This regulation was included in the regulations that were transferred to the FDIC from the Office of Thrift Supervision (“OTS”) on July 21, 2011, in connection with the implementation of applicable provisions of Title III of the Dodd-Frank Wall Street Reform and Consumer Protection Act (“Dodd-Frank Act”). The requirements for State savings associations in the rescinded regulation are substantively similar to those in another regulation also entitled “Disclosure and Reporting of CRA-Related Agreements,” which is applicable for all insured depository institutions (“IDIs”) for which the FDIC has been designated the appropriate Federal banking agency.

Upon removal of the rescinded regulation entitled “Disclosure and Reporting of CRA-Related Agreements,” regulations applicable for all IDIs for which the FDIC has been designated the appropriate Federal banking agency will be found at the regulation also entitled “Disclosure and Reporting of CRA-Related Agreements.”

DATES: Comments must be received on or before February 18, 2014.

ADDRESSES: You may submit comments by any of the following methods:

• FDIC Web site: http://www.fdic.gov/regulations/laws/federal/propose.html. Follow instructions for submitting comments on the agency Web site.

• FDIC Email: Comments@fdic.gov. Include RIN 3064-AE09 on the subject line of the message.

• FDIC Mail: Robert E. Feldman, Executive Secretary, Attention: Comments, Federal Deposit Insurance Corporation, 550 17th Street, NW., Washington, DC 20429.

• Hand Delivery to FDIC: Comments may be hand delivered to the guard station at the rear of the 550 17th Street building (located on F Street) on business days between 7 a.m. and 5 p.m.

Please include your name, affiliation, address, email address, and telephone number(s) in your comment. Where appropriate, comments should include a short Executive Summary consisting of no more than five single-spaced pages. All statements received, including attachments and other supporting materials, are part of the public record and are subject to public disclosure. You should submit only information that you wish to make publicly available.

Please note: All comments received will be posted generally without change to http://www.fdic.gov/regulations/laws/federal/propose.html, including any personal information provided. Paper copies of public comments may be requested from the Public Information Center by telephone at 1-877-275-3342 or 1-703-562-2200.

FOR FURTHER INFORMATION CONTACT: Patience Singleton, Division of Depositor and Consumer Protection, (202) 898-6859; Martha L. Ellett, Legal Division, (202) 898-6765; Richard M. Schwartz, Legal Division, (202) 898-7424; Jennifer Maree, Legal Division, (202) 898-6543.

SUPPLEMENTARY INFORMATION:

I. Background

The Dodd-Frank Act

The Dodd-Frank Act ¹ provided for a substantial reorganization of the regulation of State and Federal savings associations and their holding companies. Beginning July 21, 2011, the transfer date established by section 311 of the Dodd-Frank Act, codified at 12 U.S.C. 5411, the powers, duties, and functions formerly performed by the OTS were divided among the FDIC, as to State savings associations, the Office of the Comptroller of the Currency (“OCC”), as to Federal savings associations, and the Board of Governors of the Federal Reserve System (“FRB”), as to savings and loan holding companies. Section 316(b) of the Dodd-Frank Act, codified at 12 U.S.C. 5414(b), provides the manner of treatment for all orders, resolutions, determinations, regulations, and advisory materials that had been issued, made, prescribed, or allowed to become effective by the OTS. The section provides that if such materials were in effect on the day before the transfer date, they continue to be in effect and are enforceable by or against the appropriate successor agency until they are modified, terminated, set aside, or superseded in accordance with applicable law by such successor agency, by any court of competent jurisdiction, or by operation of law.

¹ Dodd-Frank Wall Street Reform and Consumer Protection Act, Public Law 111-203, 124 Stat. 1376 (2010).

Section 316(c) of the Dodd-Frank Act, codified at 12 U.S.C. 5414(c), further directed the FDIC and the OCC to consult with one another and to publish a list of the continued OTS regulations that would be enforced by the FDIC and the OCC, respectively. On June 14, 2011, the FDIC's Board of Directors approved a “List of OTS Regulations to be Enforced by the OCC and the FDIC Pursuant to the Dodd-Frank Wall Street Reform and Consumer Protection Act.” This list was published by the FDIC and the OCC as a Joint Notice in the Federal Register on July 6, 2011.²

² 76 FR 39247 (July 6, 2011).

Although section 312(b)(2)(B)(i)(II) of the Dodd-Frank Act, codified at 12 U.S.C. 5412(b)(2)(B)(i)(II), granted the OCC rulemaking authority relating to both State and Federal savings associations, nothing in the Dodd-Frank Act affected the FDIC's existing authority to issue regulations under the FDI Act and other laws as the “appropriate Federal banking agency” or under similar statutory terminology. Section 312(c) of the Dodd-Frank Act amended the definition of “appropriate Federal banking agency” contained in section 3(q) of the FDI Act, 12 U.S.C. 1813(q), to add State savings associations to the list of entities for which the FDIC is designated as the “appropriate Federal banking agency.” As a result, when the FDIC acts as the designated “appropriate Federal banking agency” (or under similar terminology) for State savings associations, as it does here, the FDIC is authorized to issue, modify and rescind regulations involving such associations, as well as for State nonmember banks and insured branches of foreign banks.

As noted, on June 14, 2011, pursuant to this authority, the FDIC's Board of Directors reissued and redesignated certain transferring regulations of the former OTS. These transferred OTS regulations were published as new FDIC regulations in the Federal Register on August 5, 2011.³ When it republished the transferred OTS regulations as new FDIC regulations, the FDIC specifically noted that its staff would evaluate the transferred OTS rules and might later recommend incorporating the transferred OTS regulations into other FDIC rules, amending them, or rescinding them, as appropriate.

³ 76 FR 47652 (Aug. 5, 2011).

One of the OTS rules transferred to the FDIC governed OTS oversight of disclosure and reporting of CRA-related agreements in the context of State savings associations. The OTS rule, formerly found at 12 CFR part 533, was transferred to the FDIC with only minor nonsubstantive changes and is now found in the FDIC's rules at part 390, subpart H, entitled “Disclosure and Reporting of CRA-Related Agreements.” Before the transfer of the OTS rules and continuing today, the FDIC's rules contained part 346, also entitled “Disclosure and Reporting of CRA-Related Agreements,” a rule governing FDIC oversight of disclosure and reporting of CRA-related agreements with respect to IDIs for which the FDIC has been designated the appropriate Federal banking agency. After careful review and comparison of part 390, subpart H and part 346, the FDIC proposes to rescind part 390, subpart H, because, as discussed below, it is substantively redundant to existing part 346 and simultaneously we propose to make technical conforming edits to our existing rule.

FDIC's Existing 12 CFR Part 346 and Former OTS's Part 533 (Transferred, in Part, to FDIC's Part 390, Subpart H)

Section 711 of the Gramm-Leach-Bliley Act (“GLB Act”) ⁴ added section 48 to the FDI Act,⁵ entitled “CRA Sunshine Requirements.” Section 48 applies to written agreements that (1) are made in fulfillment of the Community Reinvestment Act of 1977 (“CRA”),⁶ (2) involve funds or other resources of an IDI or affiliate with an aggregate value of more than $10,000 in a year, or loans with an aggregate principal value of more than $50,000 in a year, and (3) are entered into by an IDI or affiliate of an IDI and a nongovernmental entity or person (“NGEP”). The provisions of section 48 of the FDI Act require NGEPs, IDIs, and affiliates of IDIs that are parties to certain agreements that are in fulfillment of the CRA to make the agreements available to the public and the appropriate agency and to file annual reports concerning the agreements with the appropriate agency.

⁴ Gramm-Leach-Bliley Act, Public Law 106-102, 113 Stat. 1338 (1999).

⁵ 12 U.S.C. 1831y (1999).

⁶ Community Reinvestment Act of 1977, Public Law 95-128, 91 Stat. 1147 (1977) (codified at 12 U.S.C. 2901 et seq.).

On January 10, 2001, pursuant to section 711 of the GLB Act,⁷ the FDIC, the OTS, the OCC, and the FRB, published a joint final rule ⁸ to implement the CRA sunshine provisions of section 48 of the FDI Act. The joint final rule identifies the types of written agreements that are covered by section 48 (referred to as “covered agreements”) and defines many of the terms used in the statute. The rule also describes how the parties to a covered agreement must make the agreements available to the public and the appropriate agencies and explains the type of information that must be included in the annual report filed by a party to a covered agreement.⁹

⁷ 12 U.S.C. 1831y(h)(1).

⁸ 66 FR 2052 (Jan. 10, 2001).

⁹ Id.

Section 48 of the FDI Act, created by section 711 of the GLB Act, instructs the FDIC, OTS, OCC, and FRB (collectively, the “Federal banking agencies”) to consult and coordinate with one another “for the purposes of assuring, to the extent possible, that the regulations prescribed by each such agency are consistent and comparable with the regulations prescribed by the other such agencies.” ¹⁰ The Federal banking agencies consulted and coordinated with respect to this rulemaking and on an interagency basis jointly issued rules that are substantively identical with regard to their reporting and disclosure requirements,¹¹ including an identical definition of “covered agreement.” ¹² Accordingly, the portion of the OTS regulations that applied to State savings associations and their subsidiaries, originally codified at 12 CFR part 533 and subsequently transferred to FDIC's part 390, subpart H, is substantively similar to the current FDIC regulations codified at 12 CFR part 346. Specifically, part 346 of the FDIC regulations applies to State nonmember insured banks and their subsidiaries,¹³ while part 390, subpart H applies to State savings associations, their subsidiaries and their affiliates.¹⁴ Therefore, by amending Part 346 to cover State savings associations and rescinding part 390, subpart H, the FDIC will streamline its regulations and reduce redundancy.

¹⁰ 12 U.S.C. 1831y(h)(4).

¹¹ 66 FR 2099 (Jan. 10, 2001).

¹² See 12 CFR 346.2; 12 CFR 390.161; 12 CFR 533.2.

¹³ 12 CFR 346.1.

¹⁴ 12 CFR 390.160.

Although the former OTS rule and part 390, subpart H covers savings and loan holding companies that are affiliated with savings associations as well as the savings associations, the FDIC does not supervise savings and loan or bank holding companies for purposes of this rule. Section 312 of the Dodd-Frank Act ¹⁵ divides and transfers the functions of the former OTS to the FDIC, OCC, and FRB by amending section 1813(q) of the FDI Act. Specifically, section 312 transfers the former OTS's power to regulate State savings associations to the FDIC, while it transfers the power to regulate savings and loan holding companies to the FRB.¹⁶ As a result, whereas the former OTS part 533 applied to State savings associations, their subsidiaries and their affiliates as well as to savings and loan holding companies,¹⁷ upon transfer of part 533 to FDIC's part 390, subpart H, only the authority over State savings associations and their subsidiaries was transferred to the FDIC for purposes of this rule.¹⁸ The FRB currently has jurisdiction over the regulation and supervision of disclosure and reporting of CRA-related agreements as it applies to affiliates, including savings and loan holding companies of State savings associations.¹⁹ For this reason, the existing reference to affiliates in part 390, subpart H is not proposed to be added to part 346 of the FDIC rules.

¹⁵ Dodd-Frank Wall Street Reform and Consumer Protection Act, Public Law. 111-203, 124 Stat. 1376 (2010) (codified at 12 U.S.C. 5412).

¹⁶ 12 U.S.C. 5412.

¹⁷ 12 CFR 533.1.

¹⁸ 12 CFR 390.160.

¹⁹ 12 CFR 207.1.

After careful comparison of the FDIC's part 346 with the transferred OTS rule in part 390, subpart H, the FDIC has concluded that, with the exception of the scope of the two sections which changed as a result of the Dodd-Frank Act, the transferred OTS rules governing disclosure and reporting of CRA-related agreements are substantively redundant. Therefore, based on the foregoing, the FDIC proposes to rescind and remove from the Code of Federal Regulations the rules located at part 390, subpart H and to make minor conforming changes to part 346 to incorporate State savings associations.

II. The Proposal

Regarding the functions of the former OTS that were transferred to the FDIC, section 316(b)(3) of the Dodd-Frank Act, 12 U.S.C. 5414(b)(3), in pertinent part, provides that the former OTS's regulations will be enforceable by the FDIC until they are modified, terminated, set aside, or superseded in accordance with applicable law. After reviewing the rules currently found in part 390, subpart H, the FDIC, as the appropriate Federal banking agency for State savings associations, proposes to rescind part 390, subpart H in its entirety. The FDIC also proposes (1) to modify to the scope of part 346 to include State savings associations and their subsidiaries to conform to and reflect the scope of FDIC's current supervisory responsibilities as the appropriate Federal banking agency, and (2) to add a new subsection (m), which would define “State savings association” as having the same meaning as in section 3(b)(3) of the Federal Deposit Insurance Act (12 U.S.C. 1813(b)(3)). If the proposal is finalized, oversight of disclosure and reporting of CRA-related agreements in part 346 would apply to all FDIC-supervised institutions, including State savings associations, and part 390, subpart H would be removed because it is largely redundant of those rules found in part 346. Rescinding part 390, subpart H will serve to streamline the FDIC's rules and eliminate unnecessary regulations.

III. Request for Comments

The FDIC invites comments on all aspects of this proposed rulemaking, and specifically requests comments on the following:

(1) Are there any specific provisions of part 346 that are outdated or obsolete, or are behind industry standards? If so, please describe and recommend alternate disclosure and reporting methodology.

(2) Are the provisions of proposed part 346 sufficient to provide adequate disclosure and reporting of CRA-related agreements? Are the provisions of proposed part 346 overly burdensome? Please substantiate your answer.

(3) What impacts, positive or negative, can you foresee in the FDIC's proposal to rescind part 390, subpart H?

Written comments must be received by the FDIC no later than February 18, 2014.

IV. Regulatory Analysis and Procedure

A. The Paperwork Reduction Act

In accordance with the requirements of the Paperwork Reduction Act (“PRA”) of 1995, 44 U.S.C. 3501-3521, the FDIC may not conduct or sponsor, and the respondent is not required to respond to, an information collection unless it displays a currently valid Office of Management and Budget (“OMB”) control number.

The Proposed Rule would rescind and remove from FDIC regulations part 390, subpart H. This rule was transferred with only nominal changes to the FDIC from the OTS when the OTS was abolished by Title III of the Dodd-Frank Act. Part 390, subpart H is largely redundant of the FDIC's existing part 346 regarding disclosure and reporting of CRA-related agreements. The information collections contained in part 346 are cleared by OMB under the FDIC's “CRA Sunshine” information collection (OMB No. 3064-0139). The FDIC reviewed its burden estimates for the collection at the time it assumed responsibility for supervision of State savings associations transferred from the OTS and determined that no changes to the burden estimates were necessary. This Proposed Rule will not modify the FDIC's existing collection and does not involve any new collections of information pursuant to the PRA.

Finally, the Proposed Rule would amend sections 346.1 and 346.11 to include State savings associations and their subsidiaries within the scope of part 346 and to define “State savings association,” respectively. These measures clarify that State savings associations, as well as State nonmember banks are subject to part 346. Thus, these provisions of the Proposed Rule will not involve any new collections of information under the PRA or impact current burden estimates. Based on the foregoing, no information collection request has been submitted to the OMB for review.

B. The Regulatory Flexibility Act

The Regulatory Flexibility Act (“RFA”), requires that, in connection with a notice of proposed rulemaking, an agency prepare and make available for public comment an initial regulatory flexibility analysis that describes the impact of the proposed rule on small entities (defined in regulations promulgated by the Small Business Administration to include banking organizations with total assets of less than or equal to $500 million).²⁰ However, a regulatory flexibility analysis is not required if the agency certifies that the rule will not have a significant economic impact on a substantial number of small entities, and publishes its certification and a short explanatory statement in the Federal Register together with the rule. For the reasons provided below, the FDIC certifies that the Proposed Rule, if adopted in final form, would not have a significant economic impact on a substantial number of small entities. Accordingly, a regulatory flexibility analysis is not required.

²⁰ 5 U.S.C. 601 et seq.

As discussed in this notice of proposed rulemaking, part 390, subpart H was transferred from OTS part 533, which governed disclosure and reporting of CRA-related agreements. OTS part 533 had been in effect since 2001, and all State savings associations were required to comply with it. Because it is redundant of existing part 346 of the FDIC's rules, the FDIC proposes rescinding and removing part 390, subpart H. As a result, all FDIC-supervised institutions—including State savings associations and their subsidiaries—would be required to comply with part 346 if they are in CRA-related agreements. Because all State savings associations and their subsidiaries have been required to comply with substantially similar disclosure and reporting rules if they engaged in CRA-related agreements since 2001, today's Proposed Rule would have no significant economic impact on any State savings association.

C. Plain Language

Section 722 of the GLB Act, codified at 12 U.S.C. 4809, requires each Federal banking agency to use plain language in all of its proposed and final rules published after January 1, 2000. The FDIC invites comments on whether the Proposed Rule is clearly stated and effectively organized, and how the FDIC might make it easier to understand. For example:

• Has the FDIC organized the material to suit your needs? If not, how could it present the rule more clearly?

• Have we clearly stated the requirements of the rule? If not, how could the rule be more clearly stated?

• Does the rule contain technical jargon that is not clear? If so, which language requires clarification?

• Would a different format (grouping and order of sections, use of headings, paragraphing) make the regulation easier to understand? If so, what changes would make the regulation easier to understand?

• What else could we do to make the regulation easier to understand?

D. The Economic Growth and Regulatory Paperwork Reduction Act

Under section 2222 of the Economic Growth and Regulatory Paperwork Reduction Act of 1996 (“EGRPRA”), the FDIC is required to review all of its regulations, at least once every 10 years, in order to identify any outdated or otherwise unnecessary regulations imposed on insured institutions.²¹ The FDIC completed the last comprehensive review of its regulations under EGRPRA in 2006 and is commencing the next decennial review. The action taken on this rule will be included as part of the EGRPRA review that is currently in progress. As part of that review, the FDIC invites comments concerning whether the Proposed Rule would impose any outdated or unnecessary regulatory requirements on insured depository institutions. If you provide such comments, please be specific and provide alternatives whenever appropriate.

²¹ Public Law 104-208, 110 Stat. 3009 (1996).

List of Subjects

12 CFR Part 346

Banks, banking; Disclosure and reporting of CRA-related agreements; Savings associations.

12 CFR Part 390

Disclosure and reporting of CRA-related agreements.

Authority and Issuance

For the reasons stated in the preamble, the Board of Directors of the Federal Deposit Insurance Corporation proposes to amend part 346 of title 12 of the Code of Federal Regulations and part 390 of title 12 of the Code of Federal Regulations as set forth below:

PART 346—DISCLOSURE AND REPORTING OF CRA-RELATED AGREEMENTS

1. The authority citation for part 346 continues to reads as follows:

Authority: 12 U.S.C. 1831y.

2. Revise § 346.1 to read as follows:

§ 346.1 Purpose and scope of this part.

(a) General. This part implements section 711 of the Gramm-Leach-Bliley Act (12 U.S.C. 1831y). That section requires any nongovernmental entity or person, insured depository institution, or affiliate of an insured depository institution that enters into a covered agreement to—

(1) Make the covered agreement available to the public and the appropriate Federal banking agency; and

(2) File an annual report with the appropriate Federal banking agency concerning the covered agreement.

(b) Scope of this part. The provisions of this part apply to—

(1) State nonmember insured banks;

(2) Subsidiaries of state nonmember insured banks;

(3) Nongovernmental entities or persons that enter into covered agreements with any company listed in paragraph (b)(1), (2), (4) and (5) of this section.

(4) State savings associations; and

(5) Subsidiaries of State savings associations.

(c) Relation to Community Reinvestment Act. This part does not affect in any way the Community Reinvestment Act of 1977 (12 U.S.C. 2901 et seq.) or the FDIC's Community Reinvestment regulation found at 12 CFR part 345, or the FDIC's interpretations or administration of that Act or regulation.

(d) Examples. (1) The examples in this part are not exclusive. Compliance with an example, to the extent applicable, constitutes compliance with this part.

(2) Examples in a paragraph illustrate only the issue described in the paragraph and do not illustrate any other issues that may arise in this part.

&3. Revise § 346.11 to read as follows:

§ 346.11 Other definitions and rules of construction used in this part.

(a) Affiliate. “Affiliate” means—

(1) Any company that controls, is controlled by, or is under common control with another company; and

(2) For the purpose of determining whether an agreement is a covered agreement under § 346.2, an “affiliate” includes any company that would be under common control or merged with another company on consummation of any transaction pending before a Federal banking agency at the time—

(i) The parties enter into the agreement; and

(ii) The NGEP that is a party to the agreement makes a CRA communication, as described in § 346.3.

(b) Control. “Control” is defined in section 2(a) of the Bank Holding Company Act (12 U.S.C. 1841(a)).

(c) CRA affiliate. A “CRA affiliate” of an insured depository institution is any company that is an affiliate of an insured depository institution to the extent, and only to the extent, that the activities of the affiliate were considered by the appropriate Federal banking agency when evaluating the CRA performance of the institution at its most recent CRA examination prior to the agreement. An insured depository institution or affiliate also may designate any company as a CRA affiliate at any time prior to the time a covered agreement is entered into by informing the NGEP that is a party to the agreement of such designation.

(d) CRA public file. “CRA public file” means the public file maintained by an insured depository institution and described in 12 CFR 345.43.

(e) Executive officer. The term “executive officer” has the same meaning as in § 215.2(e)(1) of the Board of Governors of the Federal Reserve System's Regulation O (12 CFR 215.2(e)(1)).

(f) Federal banking agency; appropriate Federal banking agency. The terms “Federal banking agency” and “appropriate Federal banking agency” have the same meanings as in section 3 of the Federal Deposit Insurance Act (12 U.S.C. 1813).

(g) Fiscal year. (1) The fiscal year for a NGEP that does not have a fiscal year shall be the calendar year.

(2) Any NGEP, insured depository institution, or affiliate that has a fiscal year may elect to have the calendar year be its fiscal year for purposes of this part.

(h) Insured depository institution. “Insured depository institution” has the same meaning as in section 3 of the Federal Deposit Insurance Act (12 U.S.C. 1813).

(i) NGEP. “NGEP” means a nongovernmental entity or person.

(j) Nongovernmental entity or person—(1) General. A “nongovernmental entity or person” is any partnership, association, trust, joint venture, joint stock company, corporation, limited liability corporation, company, firm, society, other organization, or individual.

(2) Exclusions. A nongovernmental entity or person does not include—

(i) The United States government, a state government, a unit of local government (including a county, city, town, township, parish, village, or other general-purpose subdivision of a state) or an Indian tribe or tribal organization established under Federal, state or Indian tribal law (including the Department of Hawaiian Home Lands), or a department, agency, or instrumentality of any such entity;

(ii) A federally-chartered public corporation that receives Federal funds appropriated specifically for that corporation;

(iii) An insured depository institution or affiliate of an insured depository institution; or

(iv) An officer, director, employee, or representative (acting in his or her capacity as an officer, director, employee, or representative) of an entity listed in paragraphs (j)(2)(i) through (iii) of this section.

(k) Party. The term “party” with respect to a covered agreement means each NGEP and each insured depository institution or affiliate that entered into the agreement.

(l) Relevant supervisory agency. The “relevant supervisory agency” for a covered agreement means the appropriate Federal banking agency for—

(1) Each insured depository institution (or subsidiary thereof) that is a party to the covered agreement;

(2) Each insured depository institution (or subsidiary thereof) or CRA affiliate that makes payments or loans or provides services that are subject to the covered agreement; and

(3) Any company (other than an insured depository institution or subsidiary thereof) that is a party to the covered agreement.

(m) State savings association. “State savings association” has the same meaning as in section 3(b)(3) of the Federal Deposit Insurance Act (12 U.S.C. 1813(b)(3)).

(n) Term of agreement. An agreement that does not have a fixed termination date is considered to terminate on the last date on which any party to the agreement makes any payment or provides any loan or other resources under the agreement, unless the relevant supervisory agency for the agreement otherwise notifies each party in writing.

PART 390—REGULATIONS TRANSFERRED FROM THE OFFICE OF THRIFT SUPERVISION

Subpart H —Disclosure and Reporting of CRA-Related Agreements

4. The authority citation for part 390 is revised to read as follows:

Authority: 12 U.S.C. 1819.

Subpart A also issued under 12 U.S.C. 1820.

Subpart B also issued under 12 U.S.C. 1818.

Subpart C also issued under 5 U.S.C. 504; 554-557; 12 U.S.C. 1464; 1467; 1468; 1817; 1818; 1820; 1829; 3349, 4717; 15 U.S.C. 78l; 78o-5; 78u-2; 28 U.S.C. 2461 note; 31 U.S.C. 5321; 42 U.S.C. 4012a.

Subpart D also issued under 12 U.S.C. 1817; 1818; 1820; 15 U.S.C. 78l.

Subpart E also issued under 12 U.S.C. 1813; 1831m; 15 U.S.C. 78.

Subpart F also issued under 5 U.S.C. 552; 559; 12 U.S.C. 2901 et seq.

Subpart G also issued under 12 U.S.C. 2810 et seq., 2901 et seq.; 15 U.S.C. 1691; 42 U.S.C. 1981, 1982, 3601-3619.

Subpart I also issued under 12 U.S.C. 1831x.

Subpart J also issued under 12 U.S.C. 1831p-1.

Subpart K also issued under 12 U.S.C. 1817; 1818; 15 U.S.C. 78c; 78l.

Subpart L also issued under 12 U.S.C. 1831p-1.

Subpart M also issued under 12 U.S.C. 1818.

Subpart N also issued under 12 U.S.C. 1821.

Subpart O also issued under 12 U.S.C. 1828.

Subpart P also issued under 12 U.S.C. 1470; 1831e; 1831n; 1831p-1; 3339.

Subpart Q also issued under 12 U.S.C. 1462; 1462a; 1463; 1464.

Subpart R also issued under 12 U.S.C. 1463; 1464; 1831m; 1831n; 1831p-1.

Subpart S also issued under 12 U.S.C. 1462; 1462a; 1463; 1464; 1468a; 1817; 1820; 1828; 1831e; 1831o; 1831p-1; 1881-1884; 3207; 3339; 15 U.S.C. 78b; 78l; 78m; 78n; 78p; 78q; 78w; 31 U.S.C. 5318; 42 U.S.C. 4106.

Subpart T also issued under 12 U.S.C. 1462a; 1463; 1464; 15 U.S.C. 78c; 78l; 78m; 78n; 78w.

Subpart U also issued under 12 U.S.C. 1462a; 1463; 1464; 15 U.S.C. 78c; 78l; 78m; 78n; 78p; 78w; 78d-1; 7241; 7242; 7243; 7244; 7261; 7264; 7265.

Subpart V also issued under 12 U.S.C. 3201-3208.

Subpart W also issued under 12 U.S.C. 1462a; 1463; 1464; 15 U.S.C. 78c; 78l; 78m; 78n; 78p; 78w.

Subpart X also issued under 12 U.S.C. 1462; 1462a; 1463; 1464; 1828; 3331 et seq.

Subpart Y also issued under 12 U.S.C. 1831o.

Subpart Z also issued under 12 U.S.C. 1462; 1462a; 1463; 1464; 1828 (note).

Subpart H—[Removed and Reserved]

5. Remove and reserve subpart H consisting of §§ 390.160 through 390.170.

Dated at Washington, DC, this 10th day of December, 2013.
By order of the Board of Directors.
Federal Deposit Insurance Corporation.
Robert E. Feldman,
Executive Secretary.

[FR Doc. 2013-29787 Filed 12-18-13; 8:45 am]

BILLING CODE 6741-01-P